GENERAL SERVICES ADMINISTRATION

[Notice-WSCC-2020-02; Docket No. 2020-0004; Sequence No. 2]

Women's Suffrage Centennial Commission; Notification of Public Meeting

AGENCY: Women's Suffrage Centennial Commission, General Services Administration.

ACTION: Meeting Notice.

SUMMARY: Notice is being provided according to the requirements of the Federal Advisory Committee Act. This notice provides the schedule and agenda for the October 8, 2020 virtual meeting of the Women's Suffrage Centennial Commission (Commission). The meeting is open to the public.

DATES: The virtual meeting will be held on Thursday, October 8, 2020, beginning at 1:00p.m., ET (Eastern Time) and ending no later than 3:30 p.m., ET.

ADDRESSES: The meeting will be virtual. The public may join the meeting via Zoom using the following link: https://zoom.us/j/98203039140.

FOR FURTHER INFORMATION CONTACT: Stephanie Marsellos, Designated Federal Officer, Women's Suffrage Centennial Commission, P.O. Box 2020 Washington, DC 20013; phone: 202-707 0106; email: stephanie@womensvote100.org.

SUPPLEMENTARY INFORMATION:

Background

Congress passed legislation to create the Women's Suffrage Centennial Commission Act, a bill, “to ensure a suitable observance of the centennial of the passage and ratification of the 19th Amendment of the Constitution of the United States providing for women's suffrage.”

The duties of the Commission, as written in the law, include: (1) To encourage, plan, develop, and execute programs, projects, and activities to commemorate the centennial of the passage and ratification of the 19th Amendment; (2) To encourage private organizations and State and local Governments to organize and participate in activities commemorating the centennial of the passage and ratification of the 19th Amendment; (3) To facilitate and coordinate activities throughout the United States relating to the centennial of the passage and ratification of the 19th Amendment; (4) To serve as a clearinghouse for the collection and dissemination of information about events and plans for the centennial of the passage and ratification of the 19th Amendment; and (5) To develop recommendations for Congress and the President for commemorating the centennial of the passage and ratification of the 19th Amendment.

Meeting Agenda for October 8, 2020

• Call to Order, Opening Remarks, Roll Call

• Housekeeping Announcement

• Approval of Meeting Minutes

• Chair Remarks, Vice Chair Remarks

• Executive Director Remarks

• Legacy Video Presentation

• Final Report Presentation

• Commissioner Discussion

• Commissioner Vote

• Public Comment

• Wrap Up

• Adjourn

The meetings are open to the public, but pre-registration is required. Any individual who wishes to attend the meeting should register via email at stephanie@womensvote100.org or telephone 202-707-0106.

Interested persons may choose to make a public comment at the meeting during the designated time for this purpose. Public comments shall be limited by minutes based on the number of participants signed up to comment for the allotted time, and subject to agenda time changes based on the speed of the commission's work through the agenda. Speakers who wish to expand upon their oral statements, or those who had wished to speak but could not be accommodated on the agenda, may submit written statements up to 30 days after the meeting.

Members of the public may also choose to submit written comments by mailing them to Stephanie Marsellos, Designated Federal Officer, P.O. Box 2020, Washington, DC 20013, or via email at stephanie@womensvote100.org. Please contact Ms. Marsellos at the email address above to obtain meeting materials. All written comments received will be provided to the Commission. Detailed minutes of the meeting will be available for public inspection within 90 days of the meeting.

Individuals requiring special accommodations to access the public meeting should contact Ms. Marsellos at least five business days prior to each meeting, so that appropriate arrangements can be made.

Public Disclosure of Comments

Before including your address, phone number, email address, or other personally identifiable information (PII) in your comment, you should be aware that your entire comment—including your PII—may be made publicly available at any time.

While you can ask us in your comment to withhold your PII from public review, we cannot guarantee that we will be able to do so.

Dated: September 9, 2020.
David Coscia,
Agency Liaison Officer,Office of Presidential & Congressional Agency Liaison Services,Office of Administrative Services.

[FR Doc. 2020-20803 Filed 9-18-20; 8:45 am]

BILLING CODE 3420-37-P